DEPARTMENT OF ENERGY

Federal Energy Regulatory Commission

[Docket No. EL09-3-000]

Ashburnham Municipal Light Plant; Boylston Municipal Light Department; Chester Municipal Electric Light Department; Groton Electric Light; Holden Municipal Light Department; Holyoke Gas & Electric Department; Paxton Municipal Light Department; Princeton Municipal Light Department; Shrewsbury Electric Light and Cable; Sterling Municipal Light Department; Templeton Municipal Light; West Boylston Municipal Light Plant; Westfield Gas & Electric; Chicopee Municipal Lighting Plant; Hudson Light & Power Department; South Hadley Electric Light Department; Massachusetts Municipal Wholesale Electric Company, Complainants v. Berkshire Power Company, LLC ISO New England Inc., Respondents; Notice of Complaint

October 9, 2008.

Take notice that on October 8, 2008, Ashburnham Municipal Light Plant, Boylston Municipal Light Department, Chester Municipal Electric Light Department, Groton Electric Light, Holden Municipal Light Department, Holyoke Gas & Electric Department, Paxton Municipal Light Department, Princeton Municipal Light Department, Shrewsbury Electric Light and Cable, Sterling Municipal Light Department, Templeton Municipal Light, West Boylston Municipal Light Plant, Westfield Gas & Electric, Chicopee Municipal Lighting Plant, Hudson Light & Power Department, South Hadley Electric Light Department, and Massachusetts Municipal Wholesale Electric Company (Complainants) filed, pursuant to section 206 of the Federal Power Act, 16 U.S.C. 824(e), 825(e), and Rule 206 of the Rules of Practice and Procedure of the Federal Energy Regulatory Commission, 18 CFR 385.206, a complaint against Berkshire Power Company (Berkshire) and ISO New England Inc. (ISO) alleging that Berkshire was no longer eligible to receive a Reliability Must Run agreement (RMR) and that the RMR agreement between Berkshire and the ISO should be terminated immediately.

The Complainants request fast track processing of the complaint.

The Complainants certifies that copies of the complaint were served on the contacts for Berkshire and the ISO.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 7, 2008.

Kimberly D. Bose,
Secretary.

[FR Doc. E8-24707 Filed 10-16-08; 8:45 am]

BILLING CODE 6717-01-P